DEPARTMENT OF COMMERCE

National Oceanic and Atmospheric Administration

[RTID 0648-XV086]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Oregon cabezon is now subject to overfishing and Atlantic bluefish is now overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that the Oregon stock of cabezon is now subject to overfishing. Catch data from 2017 for Oregon cabezon, finalized in 2019, supports a determination that the stock is subject to overfishing because total catch in 2017 slightly exceeded the overfishing level. NMFS has informed the Pacific Fishery Management Council that it must set appropriate annual catch limits to end and prevent overfishing for this stock.

NMFS has also determined that Atlantic bluefish is now overfished. The most recent assessment for bluefish, finalized in 2019 and using data through 2018, indicates that the stock is overfished because the spawning stock biomass is less than the minimum stock size threshold. This assessment incorporated new data from the Marine Recreational Information Program which revised our understanding of the level of recreational catch, spawning stock biomass, fishing mortality, and recruitment. The new data indicate that bluefish spawning stock biomass has been below the overfished threshold since 2014. NMFS has informed the Mid-Atlantic Fishery Management Council that it must develop a rebuilding plan for this stock.

Dated: November 22, 2019.
Jennifer M. Wallace,
Acting Director, Office of Sustainable Fisheries, National Marine Fisheries Service.

[FR Doc. 2019-25829 Filed 11-27-19; 8:45 am]

BILLING CODE 3510-22-P